FEDERAL COMMUNICATIONS COMMISSION

47 CFR Part 73

[MB Docket No. 21-55; RM-11880; DA 21-476; FR ID 24746]

Television Broadcasting Services Kearney, Nebraska

AGENCY: Federal Communications Commission.

ACTION: Final rule.

SUMMARY: On February 12, 2021, the Media Bureau, Video Division (Bureau) issued a notice of proposed rulemaking in response to a petition for rulemaking filed by KHGI Licensee, LLC (Licensee), the licensee of KHGI, channel 13 (ABC), Kearney, Nebraska, requesting the substitution of channel 18 for channel 13 at Kearney in the DTV Table of Allotments. For the reasons set forth in the Report and Order referenced below, the Bureau amends FCC regulations to substitute channel 18 for channel 13 at Kearney.

DATES: Effective May 7, 2021.

FOR FURTHER INFORMATION CONTACT: Joyce Bernstein, Media Bureau, at (202) 418-1647 or Joyce.Bernstein@fcc.gov.

SUPPLEMENTARY INFORMATION: The proposed rule was published at 86 FR 12161 on March 2, 2021. The Licensee filed comments in support of the petition reaffirming its commitment to applying for channel 18. No other comments were received. In support, the Licensee stated that the channel substitution will permit KHGI to better serve its viewers, who have experienced reception problems with VHF channel 13. The Bureau believes the public interest would be served by the channel substitution because it will result in improved service. In addition, operation on channel 18 will not result in any predicted loss of service and will increase the number of people served.

This is a synopsis of the Commission's Report and Order, MB Docket No. 21-55; RM-11880; DA 21-476, adopted April 26, 2021, and released April 26, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (i), amend the Post-Transition Table of DTV Allotments, under Nebraska, by revising the entry for Kearney to read as follows:

§ 73.622 Digital television table of allotments.

* * * * *

(i) * * *

Community | Channel No.
* * * * *
NEBRASKA
* * * * *
Kearney | 18
* * * * *

[FR Doc. 2021-09692 Filed 5-6-21; 8:45 am]

BILLING CODE 6712-01-P